DEPARTMENT OF DEFENSE

Department of the Air Force

Air University Board of Visitors; Notice of Meeting

ACTION: Notice of Meeting of Air University Board of Visitors.

SUMMARY: The purpose of the meeting is to give the board an opportunity to review Air University educational programs and to present to the Commander, a report of their findings and recommendations concerning these programs.

DATES: The Air University Board of Visitors will hold an open meeting on 2-5 April 2006. The first business session of each meeting will begin in the Air University Commander's Conference Room at Headquarters Air University, Maxwell Air Force Base, Alabama (5 seats available).

FOR FURTHER INFORMATION CONTACT: Dr. Dorothy Reed, Chief of Academic Affairs, Air University Headquarters, Maxwell Air Force Base, Alabama 36112-6335, at (334) 953-5159.

Bao-Anh Trinh,
Air Force Federal Register Liaison Officer.

[FR Doc. E6-1399 Filed 2-1-06; 8:45 am]

BILLING CODE 5001-05-P